SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before June 14, 2022.

ADDRESSES: Send all comments via email to, Robert Blocker, Small Business Administration, Office of Financial Assistance, at robert.blocker@sba.gov.

FOR FURTHER INFORMATION CONTACT: Robert Blocker, Small Business Administration, Office of Financial Assistance by email robert.blocker@sba.gov or phone at (202) 619-0477, or Curtis B. Rich, Agency Clearance Officer, (202) 205-7030, curtis.rich@sba.gov;

SUPPLEMENTARY INFORMATION: The Disaster Loan Program is an SBA financing program authorized under the Small Business Act of 1953, 15 U.S.C. 636 et seq. SBA provides low-interest disaster loans to help businesses and homeowners recover from declared disasters. The information collection that is approved under OMB Control Number 3245-0017 facilitates the ongoing administration of the Disaster Loan Program. This information collection currently consists of SBA Form 5, in both English and Spanish, titled Disaster Business Loan Application, and SBA Form 1368, in both English and Spanish, titled Additional Filing Requirements Economic Injury Disaster Loan (EIDL) and Military Reservist Economic Injury Disaster Loan (MREIDL). SBA recognizes that this information collection needs to be modernized to meet the needs of homeowners and small business applicants during their recovery after a disaster. As a result, SBA intends to make revisions to this information collection that would streamline the process. These form revisions will result in greater clarity and understanding for victims applying for assistance. SBA Form 5 will be updated to incorporate all business types including sole proprietors which may be moved from SBA Form 5 C, Disaster Home and Business (Sole Proprietor) Loan Application. Questions on SBA Form 5 will be reorganized and simplified, and as needed other questions may be added based on the Agency's recent experience with the Coronavirus pandemic.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0017.

(1) Title: Disaster Business Loan Application.

Description of Respondents: Disaster survivors seeking disaster loan assistance.

Form Number: SBA Form 5.

Total Estimated Annual Responses: 11,916.

Total Estimated Annual Hour Burden: 18,814.

Curtis Rich,
Agency Clearance Officer.

[FR Doc. 2022-08117 Filed 4-14-22; 8:45 am]

BILLING CODE 8026-03-P